DEPARTMENT OF HEALTH AND HUMAN SERVICES

[Document Identifier: OS-0990-New]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before June 1, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 795-7714. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Evaluation of the National Hypertension Control Initiative (NHCI).

Type of Collection: (New) Agency Information Collection Request.

OMB No.: 0990-NEW-OS/Office of Minority Health (OMH).

Abstract: As part of the federal response to COVID-19, the U.S. Department of Health and Human Services (HHS) has funded a new initiative involving two cooperative agreements with the American Heart Association (AHA) to improve COVID-19-related health outcomes by addressing hypertension (high blood pressure) among racial and ethnic minority populations. The $32 million project from the HHS Office of Minority Health (OMH) and the Health Resources and Services Administration (HRSA) Bureau of Primary Health Care will support the implementation of the National Hypertension Control Initiative (NHCI), a national initiative to improve blood pressure control among the most at-risk populations, including racial and ethnic minorities.

The NHCI will support 350 participating HRSA-funded health centers by providing patient and provider education and training for effective hypertension control as well as integration of remote blood pressure monitoring technology into the treatment of hypertension for patients served by participating health centers. The project will also utilize the American Heart Association's targeted media campaigns and existing partnerships with community-based organizations (CBOs) to help reach Black, Latino, and other impacted communities with (i) culturally and linguistically appropriate messages, (ii) access to blood pressure screenings, and (iii) connection to health centers to encourage proper treatment and management of hypertension of screened individuals. This initiative serves to increase the number of adult patients with controlled hypertension and reduce the potential risk of COVID-related health outcomes.

AHA aims to conduct an evaluation to assess the feasibility of the implementation of each of the three NHCI strategies. The findings of this evaluation will inform the improvement and tailoring of AHA's communication approaches about the importance of and techniques for improving blood pressure control, including the benefits of accurately measuring, rapidly acting, and having a patient-focused approach to blood pressure control.

Methodology

The evaluation of the NHCI project will use a mixed methods design, integrating both quantitative and qualitative data collection and analyses. Three main goals of data collection will be to: (1) Track and monitor systems change implementation process information from Community Health Centers (CHCs) on a quarterly basis, (2) assess the capacity of NHCI partners to implement the NHCI project, their needs, the strengths and weaknesses of the systems change approach, and the feasibility of the implementation of the NHCI in their organizations and communities, and (3) assess the reach and success of NHCI project strategies implemented by partners.

Specifically, the AHA will engage in:

1. Primary Data Collection

a. Qualtrics Survey. Collecting participation and outcome data from CHCs and CBOs using an online survey administered using Qualtrics. This will be used during the first two quarterly data collection periods.

b. DREaM. Collecting participation and outcome data from CHCs and CBOs using an online Data Reporting, Evaluation, and Monitoring (DREaM) dashboard. This is the evolution of the Qualtrics survey and will be used after the first two quarterly data collection periods.

c. Feasibility Assessments. Engaging in qualitative and quantitative data collection using focus groups, interviews and questionnaires from CHCs and CBOs to assess the feasibility of various data collection and program implementation approaches.

d. EmPOWERED to Serve. Administering health lessons to community members via Community-based Organizations and assessing awareness, education, and referral outcomes.

2. Secondary Data Collection

a. Social Needs Platforms. CBOs and CHCs will be asked to use one of two publicly available social needs platforms (Find Help or Unite Us) and CHCs will be asked to use the Unite Us social needs platform to connect individuals receiving services at the CBOs to Community Health Centers (CHCs), and vice versa, to receive additional blood pressure-related services.

b. Remote Patient Monitoring. AHA will be partnering with Canary Telehealth to collect aggregate metrics from a subset of Community Health Centers (CHCs).

c. Blood Pressure Control Metrics via Electronic Health Records. AHA will be partnering with external research partners to obtain reports of aggregated blood pressure control metrics from NHCI CHCs to inform clinical decision making, clinical quality improvement, and clinical outcomes.

Annualized Burden Hour Table
Type of respondent | Number of respondents | Number responses per respondent | Average burden per response (in hours) | Total burden hours
CHCs: Qualtrics survey (4 quarters) | 350 | 2 | 1.5 | 1,050
CBOs: Qualtrics survey (4 quarters) | 16 | 2 | 1.5 | 192
CHCs: Training on data entry into DREaM | 350 | 1 | 1 | 350
CBOs: Training on data entry into DREaM | 16 | 1 | 1 | 16
CHCs: Quarterly data entry in DREaM | 350 | 2 | 1.5 | 1,050
CBOs: Quarterly data entry into DREaM | 16 | 2 | 30/60 | 16
CHCs: Feasibility assessment focus groups (3 times a year) | 16 | 3 | 1.5 | 72
CBOs: Feasibility assessment focus groups (3 times a year) | 16 | 3 | 1.5 | 72
Individual Consumers: ETS health lesson learning questionnaires | 3,120 | 1 | 10/60 | 1,872
CHCs: Social Needs Platforms Readiness Assessment | 350 | 1 | 15/60 | 87.5
CBOs: Social Needs Platforms Readiness Assessment | 16 | 1 | 15/60 | 4
Individual Consumers: Social Needs Platform Participation | 10,000 | 1 | 10/60 | 1,666
Management Occupation: RPM provider data delivery | 1 | 4 | 1 | 4
CBOs: Remote Patient Monitoring (RPM) | 5 | 1 | 1 | 5
Individual Consumers: Remote Patient Monitoring (RPM) | 2,750 | 1 | 1 | 2,750
Blood Pressure Control Metrics via Electronic Health Records | 0 | 0 | 0 | 0
Total |  |  |  | 8,141

Sherrette A. Funn,
Paperwork Reduction Act Reports Clearance Officer, Office of the Secretary.

[FR Doc. 2022-09318 Filed 4-29-22; 8:45 am]

BILLING CODE 4150-29-P